DEPARTMENT OF DEFENSE

Department of the Air Force, DoD.

Privacy Act of 1974; System of Records

AGENCY: Department of the Air Force, DoD

ACTION: Notice to delete records systems.

SUMMARY: The Department of the Air Force proposes to delete three systems of records notices from its inventory of records systems subject to the Privacy Act of 1974 (5 U.S.C. 552a), as amended.

DATES: The action will be effective on October 6, 2000, unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force's records systems notices for records systems subject to the Privacy Act of 1974 (5 U.S.C. 552a), as amended, have been published in the Federal Register and are available from the address above.

The proposed deletions are not within the purview of subsection (r) of the Privacy Act (5 U.S.C. 552a), as amended, which would require the submission of a new or altered system report for each system.

Dated: August 30, 2000.
L.M. Bynum,
Alternate OSD Federal Register Liaison Officer, Department of Defense.

F044 AFSG H

System name:

Dental Personnel Actions (June 11, 1997, 62 FR 31793).

Reason: These records are now being maintained under the Air Force system of records notice F036 AF PC C, Military Personnel Records System.

F052 AFHC A

System name:

Chaplain Information Sheet (June 11, 1997, 62 FR 31793).

Reason: These records are now being maintained under the Air Force system of records notice F036 AF PC Q, Personnel Data System (PDS).

F052 AFHC B

System name:

Chaplain Personnel Record (June 11, 1997, 62 FR 31793).

Reason: These records are now being maintained under the Air Force system of records notice F036 AF PC Q, Personnel Data System (PDS).

[FR Doc. 00-22698 Filed 9-5-00; 8:45 am]

BILLING CODE 5001-10-F